DEPARTMENT OF DEFENSE

Department of the Air Force

Board of Visitors (BoV) of the U.S. Air Force Academy Notice of Meeting

AGENCY: U.S. Air Force Academy Board of Visitors.

ACTION: Meeting notice.

SUMMARY: Due to circumstances beyond the control of the Department of Defense (DoD) and the Designated Federal Officer, the Board of Visitors of the U.S. Air Force Academy was unable to provide public notification concerning the meeting on Wednesday, April 25, 2018, of the Board of Visitors of the U.S. Air Force Academy. Accordingly, the Advisory Committee Management Officer for the Department of Defense, waives the 15-calendar day notification requirement. The U.S. Air Force Academy (USAFA) Board of Visitors (BoV) will hold a meeting at the United States Air Force Academy Eisenhower Golf Course, Building 3162, Colorado Springs, CO, on Wednesday, 25 April 2018. The open portion of the meeting is scheduled for 8:30 a.m.-2:00 p.m. (Mountain Time) and the closed portion of the meeting is scheduled for 2:00 p.m.-4:30 p.m.; the public audience will be dismissed at 2:00 p.m. The purpose of this meeting is to review morale and discipline, social climate, athletics, diversity, curriculum and other matters relating to the Academy; these topics will fall under a Superintendent's update, a Commandant's update and a Dean's update. One session of this meeting shall be closed to the public.

SUPPLEMENTARY INFORMATION: Public Accessibility to the Meeting: Pursuant to 5 U.S.C. 552b, as amended, and 41 CFR 102-3.140 through 102-3.165, and subject to the availability of space, this meeting is open to the public. Registration of members of the public who wish to attend the meeting will begin upon publication of this meeting notice and end three business days (20 April) prior to the start of the meeting. All members of the public must contact Capt Campos at the phone number or email listed in the FOR FURTHER INFORMATION CONTACT. Seating is limited and is on a first-to-arrive basis. Attendees will be asked to provide their name, title, affiliation, and contact information to include email address and daytime telephone number to the POC listed in the FOR FURTHER INFORMATION CONTACT section. Any interested person may attend the meeting, file written comments or statements with the committee, or make verbal comments from the floor during the public meeting, at the times, and in the manner, permitted by the BoV.

Written Comments or Statements: Pursuant to 41 CFR 102-3.105(j) and 102-3.140 and section 10(a)(3) of the Federal Advisory Committee Act, the public or interested organizations may submit written comments or statements to the BoV about its mission and/or the topics to be addressed in this public meeting. Written comments or statements should be submitted to Capt Campos, via electronic mail, the preferred mode of submission, at the email address listed in the FOR FURTHER INFORMATION CONTACT section in the following formats: Adobe Acrobat or Microsoft Word. The comment or statement must include the author's name, title, affiliation, address, and daytime telephone number. Written comments or statements being submitted in response to the agenda set forth in this notice must be received by the committee DFO at least five (5) business days (18 April) prior to the meeting so that they may be made available to the BoV Chairman for their consideration prior to the meeting. Written comments or statements received after this date may not be provided to the BoV until its next meeting. Please note that because the BoV operates under the provisions of the Federal Advisory Committee Act, as amended, all written comments will be treated as public documents and will be made available for public inspection.

Verbal Comments: Members of the public will be permitted to make verbal comments during the meeting only at the time and in the manner allowed herein. If a member of the public is interested in making a verbal comment at the open meeting, that individual must submit a request, with a brief statement of the subject matter to be addressed by the comment, at least three (3) business days (20 April) in advance, via electronic mail, the preferred mode of submission, at the email address listed in the FOR FURTHER INFORMATION CONTACT section. The BoV DFO will log each request to make a comment, in the order received, and the DFO and BoV Chairman will determine whether the subject matter of each comment is relevant to the BoV's mission and/or the topics to be addressed in this public meeting. A period near the end of the open meeting will be available for verbal public comments. Members of the public who have requested to make a verbal comment and whose comments have been deemed relevant under the process described in this paragraph, will be allotted no more than five (5) minutes during this period, and will be invited to speak in the order in which their requests were received by the DFO. For the benefit of the public, rosters that list the names of BoV members and any releasable materials presented during the open portions of this BoV meeting shall be made available upon request.

FOR FURTHER INFORMATION CONTACT: Captain Natalie Campos, Officer of the Deputy Assistant Secretary of the Air Force, SAF/MRM, Executive Officer and Force Management Action Officer, 1660 Air Force Pentagon, Washington, DC 20330, (703) 697-7058, natalie.m.campos.mil@mail.mil.

Henry Williams,
Acting Air Force Federal Register Liaison Officer.

[FR Doc. 2018-07800 Filed 4-13-18; 8:45 am]

BILLING CODE 5001-10-P